DEPARTMENT OF COMMERCE

International Trade Administration

[A-201-802]

Gray Portland Cement and Clinker From Mexico; Notice of Amended Final Results of Antidumping Duty Administrative Review

AGENCY: Import Administration, International Trade Administration, Department of Commerce.

ACTION: Notice of amended final results of antidumping duty administrative review.

SUMMARY: On January 14, 2003, the Department of Commerce published the final results of administrative review of the antidumping duty order on gray portland cement and clinker from Mexico. The review covers one manufacturer/exporter, CEMEX, S.A. de C.V., and its affiliate, GCC Cemento, S.A. de C.V. The period of review is August 1, 2000, through July 31, 2001. Based on a correction of an ministerial error, we have changed the assessment rate calculation for CEMEX, S.A. de C.V., and its affiliate, GCC Cemento, S.A. de C.V.

EFFECTIVE DATE: February 13, 2003.

FOR FURTHER INFORMATION CONTACT: Hermes Pinilla or Brian Ellman, Office of AD/CVD Enforcement 3, Import Administration, International Trade Administration, U.S. Department of Commerce, 14th Street and Constitution Avenue, NW., Washington, DC 20230; telephone: (202) 482-3477 or (202) 482-4852, respectively.

SUPPLEMENTARY INFORMATION:

Background

On January 14, 2003, the Department of Commerce (the Department) published in the Federal Register the final results of the administrative review of the antidumping duty order on gray portland cement and clinker from Mexico (68 FR 1816) (Final Results).

On January 14, 2003, CEMEX, S.A. de C.V. (CEMEX), and GCC Cemento, S.A. de C.V. (GCCC), alleged that the Department made an ministerial error in calculating the dumping margin for CEMEX and GCCC in the Final Results of the 2000/01 administrative review. Specifically, CEMEX and GCCC alleged that the Department inadvertently did not convert the variable for entered value from short tons to metric tons when calculating the assessment rate. CEMEX and GCCC argue that, by not converting the entered-value variable to a metric-ton basis, the assessment-rate calculation overstates the actual assessment rate. The petitioner did not comment on the ministerial-error allegation.

We agree with respondents' assertion that we neglected to convert the entered-value variable from short tons to metric tons in our calculations. Therefore, we have recalculated the assessment rate for CEMEX and GCCC by converting the entered-value variable from short tons to metric tons.

Correction of this ministerial error does not change the weighted-average margin of 73.74 percent that we calculated for the Final Results. Making the correction only changes the importer-specific assessment rate. See Analysis Memorandum dated February 3, 2003, for further information.

Assessment Rates

The Department shall determine, and the Customs Service shall assess, antidumping duties on all appropriate entries. As amended by this determination and in accordance with 19 CFR 351.212(b), we have calculated an exporter/importer-specific assessment rate value. For the sales in the United States through the respondents' affiliated U.S. parties, we divided the total dumping margin for the reviewed sales by the total entered value of those reviewed sales. We will direct the Customs Service to assess the resulting percentage margin against the entered customs values for the subject merchandise on each of the entries during the review period (see 19 CFR 351.212(a)).

We are issuing and publishing this determination and notice in accordance with sections 751 (h) and 777(i) (1) of the Act.

Dated: February 3, 2003.
Faryar Shirzad,
Assistant Secretary for Import Administration.

[FR Doc. 03-3516 Filed 2-12-03; 8:45 am]

BILLING CODE 3510-DS-P